FEDERAL DEPOSIT INSURANCE CORPORATION

12 CFR Part 327

RIN 3064-AD03

Assessments

AGENCY: Federal Deposit Insurance Corporation.

ACTION: Proposed rule; extension of comment period.

SUMMARY: On May 18, 2006, the Federal Deposit Insurance Corporation (FDIC) issued a notice of proposed rulemaking with request for comments on revisions to 12 CFR part 327 (see 71 FR 28790). The rulemaking proposed to make the deposit insurance assessment system react more quickly and more accurately to changes in institutions' risk profiles, and in so doing to eliminate several causes for complaint by insured depository institutions. The proposed rule also would make changes necessitated by the recently enacted Federal Deposit Insurance Reform Act. The FDIC is extending the comment period on that notice of proposed rulemaking to August 16, 2006. This action will allow interested persons additional time to analyze the issues and prepare their comments.

DATES: Comments must be received on or before August 16, 2006.

ADDRESSES: You may submit comments, identified by RIN number 3064-AD03 by any of the following methods:

• Agency Web site: http://www.FDIC.gov/regulations/laws/federal/propose.html.

• Mail: Robert E. Feldman, Executive Secretary, Attention: Comments/Legal ESS, Federal Deposit Insurance Corporation, 550 17th Street, NW., Washington, DC 20429.

• Hand Delivered/Courier: The guard station at the rear of the 550 17th Street Building (located on F Street), on business days between 7 a.m. and 5 p.m.

• E-mail: comments@FDIC.gov. Include RIN number 3064-AD03 in the subject line of the message.

Instructions: Submissions received must include the agency name and RIN for this rulemaking. Comments received will be posted without change to http://www.FDIC.gov/regulations/laws/federal/propose.html, including any personal information provided.

FOR FURTHER INFORMATION CONTACT: Munsell W. St. Clair, Senior Policy Analyst, Division of Insurance and Research, (202) 898-8967; Donna M. Saulnier, Senior Assessment Policy Specialist, Division of Finance, (703) 562-6167; and Christopher Bellotto, Counsel, Legal Division, (202) 898-3801.

SUPPLEMENTARY INFORMATION: On May 18, 2006, the FDIC requested comment on its proposal to make certain procedural and operational changes to its risk-based assessments regulations. The proposed rule would provide for assessment collection after each quarter ends, would require institutions with $300 million or more in assets to determine their assessment bases using average daily deposit balances, and would eliminate the float deduction used to determine the assessment base. In addition, the rules governing assessments of institutions that go out of business would be simplified; newly insured institutions would be assessed for the assessment period in which they become insured; prepayment and double payment options would be eliminated; institutions would have 90 days from each quarterly certified statement invoice to file requests for review and requests for revision; and the rules governing quarterly certified statement invoices would be adjusted for a quarterly assessment system and for a three-year retention period rather than the current five-year period.

The proposed rule to make these procedural and operational changes to the risk-based assessments regulations is just one of three notices of proposed rulemaking to implement certain aspects of the Reform Act published by the FDIC on the same date. At that time, the FDIC also published proposed rules on dividends (see 71 FR 28804) and the one-time assessment credit (see 71 FR 28809). In addition, the Reform Act requires the FDIC to prescribe rules on the designated reserve ratio and risk-based assessments. Those proposed rules are expected to be published in the coming weeks.

The FDIC has determined that it would be most effective for comment purposes to have a longer period of overlap between the pending proposed rules on credits, dividends, and operational changes to the risk-based assessments regulations, and the upcoming proposed rules on the designated reserve ratio and risk-based assessments. All of these proposals relate in one way or another to risk-based assessments, and commenters should have a period of time during which they could, if they so choose, review all of the proposals together.

Recently, ING Bank, fsb and Nationwide Bank requested that the FDIC extend the closing date for comments on the pending proposed rules to coincide with the closing date for comments on the upcoming proposed rules. While the FDIC understands the concerns expressed, a 30-day extension should provide sufficient comment period overlap to permit all of the proposals to be reviewed together, giving interested parties 90 days to comment on the three pending proposals and allowing FDIC staff to consider all comments in a timely manner.

Dated at Washington, DC this 20th day of June, 2006.
By order of the Board of Directors.
Federal Deposit Insurance Corporation.
Robert E. Feldman,
Executive Secretary.

[FR Doc. 06-5865 Filed 6-27-06; 8:45 am]

BILLING CODE 6714-01-P